DEPARTMENT OF AGRICULTURE

Forest Service

Yakutat Resource Advisory Committee

AGENCY: Forest Service, USDA.

ACTION: Notice of meetings.

SUMMARY: The Yakutat Resource Advisory Committee (RAC) will meet in Yakutat, Alaska. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meetings are open to the public. The purpose of the meetings is to review project proposals and make project recommendations for Title II funds.

DATES: The meetings will be held from 6 p.m. to 8 p.m. on the following dates:

• May 16, 2014

• May 23, 2014

• August 15, 2014

• September 19, 2014

All RAC meetings are subject to cancellation. For status of meeting prior to attendance, please contact the person listed under FOR FURTHER INFORMATION CONTACT.

ADDRESSES: The meeting will be held at the Kwaan Plaza Conference Room, 712 Ocean Cape Drive, Yakutat, Alaska. A toll free number is available for the meeting, please contact the Desginated Federal Officer to receive this number.

Written comments may be submitted as described under SUPPLEMENTARY INFORMATION. All comments, including names and addresses when provided, are placed in the record and are available for public inspection and copying. The public may inspect comments received at the Yakutat Ranger Distirct. Please call ahead to facilitate entry into the building.

FOR FURTHER INFORMATION CONTACT: Lee A. Benson, District Ranger and Designated Federal Officer, by phone at 907-784-3359 or via email at labenson@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accommodation for access to the facility or proceedings by contacting the person listed above.

SUPPLEMENTARY INFORMATION: Additional RAC information, including the meeting agenda and the meeting summary/minutes can be found at the following Web site: https://fsplaces.fs.fed.us/fsfiles/unit/wo/secure_rural_schools.nsf/RAC/FB43877F55F5ED7988256CCC00690DA6?OpenDocument. The agenda will include time for people to make oral statements of three minutes or less. Individuals wishing to make an oral statement should request in writing by April 1, 2014 to be scheduled on the agenda. Anyone who would like to bring related matters to the attention of the committee may file written statements with the committee staff before or after the meeting. Written comments and requests for time for oral comments must be sent to Lee A. Benson, District Ranger, Yakutat Ranger District, 712 Ocean Cape Road, Yakutat, AK 99689; or by email to labenson@fs.fed.us, or via facsimile to 907-784-3457.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: April 2, 2014.
Lee A. Benson,
District Ranger.

[FR Doc. 2014-08059 Filed 4-9-14; 8:45 am]

BILLING CODE 3411-15-P